DEPARTMENT OF COMMERCE

International Trade Administration

[C-475-819]

Certain Pasta from Italy: Final Results of the Eighth Countervailing Duty Administrative Review

AGENCY: Import Administration, International Trade Administration, Department of Commerce.

SUMMARY: On April 8, 2005, the U.S. Department of Commerce (“the Department”) published in the Federal Register its preliminary results of the administrative review of the countervailing duty order on certain pasta from Italy for the period January 1, 2003, through December 31, 2003. We preliminarily found that the countervailing duty rates during the period of review for all of the producers/exporters under review are less than 0.5 percent and are, consequently, de minimis. We did not receive any comments on our preliminary results, and we have made no further revisions. The final net subsidy rates for the reviewed companies are listed below in the section entitled “Final Results of Review.”

EFFECTIVE DATE: June 28, 2005.

FOR FURTHER INFORMATION CONTACT: Brandon Farlander or Marc Rivitz, AD/CVD Operations, Office 1, Import Administration, U.S. Department of Commerce, 14th Street and Constitution Avenue, NW, Washington, DC 20230; telephone (202) 482-0182 and (202) 482-1382, respectively.

SUPPLEMENTARY INFORMATION:

Case History

On July 24, 1996, the Department published a countervailing duty order on certain pasta (“pasta” or “subject merchandise”) from Italy. See Notice of Countervailing Duty Order and Amended Final Affirmative Countervailing Duty Determination: Certain Pasta From Italy, 61 FR 38544 (July 24, 1996). On July 1, 2004, the Department published a notice of “Opportunity to Request Administrative Review” of this countervailing duty order for calendar year 2003, the period of review (“POR”). See Antidumping or Countervailing Duty Order, Finding, or Suspended Investigation; Opportunity to Request Administrative Review, 69 FR 39903 (July 1, 2004). On July 30, 2004, we received requests for reviews from the following four producers/exporters of Italian pasta: Pastificio Antonio Pallante S.r.l. (“Pallante”); Pastificio Corticella S.p.A. (“Corticella”)/Pastificio Combattenti S.p.A. (“Combattenti”) (collectively, “Corticella/Combattenti”); Pasta Lensi S.r.l. (“Lensi”);¹ and Pastificio Carmine Russo S.p.A./Pastificio Di Nola S.p.A. (collectively, “Russo/Di Nola”). In accordance with 19 CFR 351.221(c)(1)(i), we published a notice of initiation of the review on August 30, 2004. See Initiation of Antidumping and Countervailing Duty Administrative Reviews and Requests for Revocation in Part, 69 FR 52857 (August 30, 2004).

¹ Lensi is the successor-in-interest to IAPC Italia S.r.l. See Notice of Final Results of Antidumping and Countervailing Duty Changed Circumstances Reviews: Certain Pasta from Italy, 68 FR 41553 (July 14, 2003).

On September 7, 2004, we issued countervailing duty questionnaires to the Commission of the European Union, the Government of Italy (“GOI”), Pallante, Corticella/Combattenti, Lensi, and Russo/Di Nola. We received responses to our questionnaires in October and November 2004. We issued supplemental questionnaires to the respondents in November 2004, and received responses to our supplemental questionnaires in November and December 2004.

On September 15, 2004, Russo/Di Nola withdrew its request for review. Pallante withdrew its request for review on October 28, 2004. Based on withdrawals of the requests for review, we rescinded this administrative review for both Russo/Di Nola and Pallante. See Certain Pasta from Italy: Preliminary Results and Partial Rescission of the Eighth Countervailing Duty Administrative Review, 70 FR 17971 (April 8, 2005) (“Preliminary Results”).

Since the publication of the Preliminary Results, we invited interested parties to submit briefs or request a hearing. The Department did not conduct a hearing in this review because none was requested, and no briefs were received.

Scope of the Order

Imports covered by the order are shipments of certain non-egg dry pasta in packages of five pounds four ounces or less, whether or not enriched or fortified or containing milk or other optional ingredients such as chopped vegetables, vegetable purees, milk, gluten, diastasis, vitamins, coloring and flavorings, and up to two percent egg white. The pasta covered by this scope is typically sold in the retail market, in fiberboard or cardboard cartons, or polyethylene or polypropylene bags of varying dimensions.

Excluded from the scope of the order are refrigerated, frozen, or canned pastas, as well as all forms of egg pasta, with the exception of non-egg dry pasta containing up to two percent egg white. Also excluded are imports of organic pasta from Italy that are accompanied by the appropriate certificate issued by the Instituto Mediterraneo Di Certificazione, Bioagricoop S.r.l., QC&I International Services, Ecocert Italia, Consorzio per il Controllo dei Prodotti Biologici, Associazione Italiana per l'Agricoltura Biologica, or Codex S.r.L. In addition, based on publicly available information, the Department has determined that, as of August 4, 2004, imports of organic pasta from Italy that are accompanied by the appropriate certificate issued by Bioagricert S.r.l. are also excluded from this order. See memorandum from Eric B. Greynolds to Melissa G. Skinner, dated August 4, 2004, which is on file in the Department's Central Records Unit (“CRU”) in Room B-099 of the main Department building.

The merchandise subject to review is currently classifiable under subheadings 1901.90.9095 and 1902.19.20 of the Harmonized Tariff Schedule of the United States (“HTSUS”). Although the HTSUS subheadings are provided for convenience and customs purposes, the written description of the merchandise subject to the order is dispositive.

Scope Rulings

The Department has issued the following scope rulings to date:

(1) On August 25, 1997, the Department issued a scope ruling that multicolored pasta, imported in kitchen display bottles of decorative glass that are sealed with cork or paraffin and bound with raffia, is excluded from the scope of the antidumping and countervailing duty orders. See memorandum from Edward Easton to Richard Moreland, dated August 25, 1997, which is on file in the CRU.

(2) On July 30, 1998, the Department issued a scope ruling finding that multipacks consisting of six one-pound packages of pasta that are shrink-wrapped into a single package are within the scope of the antidumping and countervailing duty orders. See letter from Susan H. Kuhbach to Barbara P. Sidari, dated July 30, 1998, which is available in the CRU.

(3) On October 23, 1997, the petitioners filed an application requesting that the Department initiate an anti-circumvention investigation of Barilla S.r.L. (“Barilla”), an Italian producer and exporter of pasta. The Department initiated the investigation on December 8, 1997. See Initiation of Anti-Circumvention Inquiry on Antidumping Duty Order on Certain Pasta From Italy, 62 FR 65673 (December 15, 1997). On October 5, 1998, the Department issued its final determination that, pursuant to section 781(a) of the Tariff Act of 1930, as amended (“the Act”), circumvention of the antidumping order on pasta from Italy was occurring by reason of exports of bulk pasta from Italy produced by Barilla which subsequently were repackaged in the United States into packages of five pounds or less for sale in the United States. See Anti-Circumvention Inquiry of the Antidumping Duty Order on Certain Pasta from Italy: Affirmative Final Determination of Circumvention of the Antidumping Duty Order, 63 FR 54672 (October 13, 1998).

(4) On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See memorandum from John Brinkmann to Richard Moreland, dated May 24, 1999, which is available in the CRU.

(5) On April 27, 2000, the Department self-initiated an anti-circumvention inquiry to determine whether Pastificio Fratelli Pagani S.p.A.'s importation of pasta in bulk and subsequent repackaging in the United States into packages of five pounds or less constitutes circumvention with respect to the antidumping and countervailing duty orders on pasta from Italy pursuant to section 781(a) of the Act and 19 CFR 351.225(b). See Certain Pasta from Italy: Notice of Initiation of Anti-circumvention Inquiry of the Antidumping and Countervailing Duty Orders, 65 FR 26179 (May 5, 2000). On September 19, 2003, we published an affirmative finding of the anti-circumvention inquiry. See Anti-Circumvention Inquiry of the Antidumping and Countervailing Duty Orders on Certain Pasta from Italy: Affirmative Final Determinations of Circumvention of Antidumping and Countervailing Duty Orders, 68 FR 54888 (Sept. 19, 2003).

Period of Review

The period for which we are measuring subsidies, or POR, is January 1, 2003, through December 31, 2003.

Final Results of Review

Neither the petitioners nor respondents commented on the preliminary results, and we found that no changes were warranted. Therefore, we have made no changes to the net countervailable subsidy rates for the POR.

In accordance with 19 CFR 351.221(b)(5), we calculated an individual subsidy rate for each producer/exporter covered by this administrative review. Listed below are the programs we examined in the review and our findings with respect to each of these programs. For a complete analysis of the programs found to be countervailable and terminated, see Preliminary Results.

Producer/Exporter | Net Subsidy Rate
Pasta Lensi S.r.l. | 0.00 percent
Pastificio Corticella S.p.A./Pastificio Combattenti S.p.A. | 0.06 percent (de minimis)

I. Program Determined to Confer Subsidies During the POR

A. Export Marketing Grants Under Law 304/90 ..........0.06 percent

Note: applies to Corticella/Combattenti only.

II. Programs Determined Not to Confer Subsidies During the POR

A. Social Security Reductions and Exemptions - Sgravi

B. Brescia Chamber of Commerce Grants

III. Programs Determined Not To Have Been Used During the POR

A. Industrial Development Grants Under Law 488/92

B. Industrial Development Loans Under Law 64/86

C. European Regional Development Fund Grants

D. Law 236/93 Training Grants

E. Law 1329/65 Interest Contributions (Sabatini Law) (Formerly Lump-Sum Interest Payment Under the Sabatini Law for Companies in Southern Italy)

F. Development Grants Under Law 30 of 1984

G. Law 908/55 Fondo di Rotazione Iniziative Economiche (Revolving Fund for Economic Initiatives) Loans

H. Industrial Development Grants Under Law 64/86

I. Law 317/91 Benefits for Innovative Investments

J. Tremonti Law 489/94 (Formerly Law Decree 357/94)

K. Ministerial Decree 87/02

L. Law 10/91 Grants to Fund Energy Conservation

M. Law 341/95 Interest Contributions on Debt Consolidation Loans (Formerly Debt Consolidation Law 341/95)

N. Regional Tax Exemptions Under IRAP

O. Corporate Income Tax (IRPEG) Exemptions

P. Export Restitution Payments

Q. VAT Reductions Under Laws 64/86 and 675/55

R. Export Credits Under Law 227/77

S. Capital Grants Under Law 675/77

T. Retraining Grants Under Law 675/77

U. Interest Contributions on Bank Loans Under Law 675/77

V. Interest Grants Financed by IRI Bonds

W. Preferential Financing for Export Promotion Under Law 394/81

X. Urban Redevelopment Under Law 181

Y. Grant Received Pursuant to the Community Initiative Concerning the Preparation of Enterprises for the Single Market (PRISMA)

Z. Industrial Development Grants under Law 183/76

AA. Interest Subsidies Under Law 598/94

AB. Duty-Free Import Rights

AC. Remission of Taxes on Export Credit Insurance Under Article 33 of Law 227/77

AD. European Social Fund Grants

AE. Law 113/86 Training Grants

AF. European Agricultural Guidance and Guarantee Fund

The calculations will be disclosed to the interested parties in accordance with 19 CFR 351.224(b).

Because the countervailing duty rates for all of the above-noted companies are either less than 0.5 percent and, consequently, de minimis, or zero, we will instruct U.S. Customs and Border Protection (“CBP”) to liquidate entries of these companies during the period January 1, 2003, through December 31, 2003, without regard to countervailing duties in accordance with 19 CFR 351.106(c)(1). The Department will issue appropriate instructions directly to CBP within 15 days of publication of these final results of this review.

For all other companies that were not reviewed (except Barilla G. e R. F.lli S.p.A. and Gruppo Agricoltura Sana S.r.L., which are excluded from the order), the Department has directed CBP to assess countervailing duties on all entries between January 1, 2003, and December 31, 2003, at the rates in effect at the time of entry.

Since the countervailable subsidy rate is de minimis, the Department will instruct CBP to continue to suspend liquidation of entries, but to collect no cash deposits of estimated countervailing duties for the above-noted companies of all shipments of the subject merchandise from the producers/exporters under review that are entered, or withdrawn from warehouse, for consumption on or after the date of publication of the final results of this administrative review. For all non-reviewed firms (except Barilla G. e R. F.lli S.p.A. and Gruppo Agricoltura Sana S.r.L., which are excluded from the order), we will instruct CBP to collect cash deposits of estimated countervailing duties at the most recent company-specific or all-others rate applicable to the company. These rates shall apply to all non-reviewed companies until a review of a company assigned these rates is requested.

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: June 22, 2005.
Joseph A. Spetrini,
Acting Assistant Secretary for Import Administration.

[FR Doc. 05-12740 Filed 6-27-05; 8:45 am]

BILLING CODE 3510-DS-S